DEPARTMENT OF COMMERCE

National Oceanic and Atmospheric Administration

[I.D. 061405D]

Marine Mammals; File No. 821-1588-04

AGENCY: National Marine Fisheries Service (NMFS), National Oceanic and Atmospheric Administration (NOAA), Commerce.

ACTION: Notice; withdrawal of amendment application.

SUMMARY: Notice is hereby given that the Texas A&M University, Department of Marine Biology, P.O. Box 1675, Galveston, TX 77551 (Principal Investigator: Randall W. Davis, Ph.D.) has withdrawn its application to amendment Permit No. 821-1588-03 to conduct research Northern fur seals (Callorhinus ursinus).

ADDRESSES: The documents related to this action are available for review upon written request or by appointment in the following offices:

Permits, Conservation and Education Division, Office of Protected Resources, NMFS, 1315 East-West Highway, Room 13705, Silver Spring, MD 20910; phone (301)713-2289); fax (301)427-2521; and

Alaska Region, NMFS, P.O. Box 21668, Juneau, AK 99802-1668; phone (907)586-7221; fax (907)586-7249.

FOR FURTHER INFORMATION CONTACT: Ruth Johnson or Tammy Adams, (301)713-2289.

SUPPLEMENTARY INFORMATION: On June 28, 2005, a notice was published in the Federal Register (70 FR 37089) that an application had been filed by the above named organization. That application has been withdrawn by the applicant.

Dated: November 1, 2005.
Stephen L. Leathery,
Chief, Permits, Conservation and Education Division, Office of Protected Resources, National Marine Fisheries Service.

[FR Doc. 05-22130 Filed 11-4-05; 8:45 am]

BILLING CODE 3510-22-S